DEPARTMENT OF ENERGY

Federal Energy Regulatory Commission

[Docket Nos. EL00-95-000 and EL00-98-000]

San Diego Gas & Electric Company, Complainant, v. Sellers of Energy and Ancillary Services Into Markets Operated by the California Independent System Operator and the California Power Exchange, Respondents; Investigation of Practices of the California Independent System Operator and the California Power Exchange; Notice of Technical Conference (Listen-Only Call-In Number)

August 22, 2005.

On August 16, 2005, the Commission issued a notice informing parties that the Federal Energy Regulatory Commission staff will convene a technical conference to finalize the template for submission of cost filings, as discussed in San Diego Gas & Electric Co. v. Sellers of Energy & Ancillary Services, et al., 112 FERC ¶ 61,1176 (2005).

This technical conference will be held on August 25, 2005, at the Federal Energy Regulatory Commission, 888 First Street, NE., Washington, DC 20426, beginning at 9 a.m. (EST) in the Commission Meeting Room.

By this notice, we announce further that a listen-only telephone line will be provided for interested parties to call-in and listen to the telephone conference. Below is the call-in information for the listen-only conference call:

Date: August 25, 2005.

Time: 9 a.m. EDT.

Toll-free Number: 888-390-0678.

Passcode: 5848040.

For more information about the conference, please contact: Heidi Werntz, Office of General Counsel, Federal Energy Regulatory Commission, at (202) 502-8910 or Heidi.Werntz@ferc.gov.

Magalie R. Salas,
Secretary.

[FR Doc. E5-4700 Filed 8-25-05; 8:45 am]

BILLING CODE 6717-01-P